Proclamation 10255 of September 10, 2021

National Grandparents Day, 2021

By the President of the United States of America

A Proclamation

On National Grandparents Day, we celebrate the important role grandparents play in providing love, wisdom, and strength to their families, and fostering greater understanding across generations. Grandmas and grandpas, abuelas y abuelos, nanas and pop-pops—through their wisdom, their perseverance, and their unconditional love—strengthen our family bonds. They share with us who we are, where we come from, and the experiences that have shaped their lives, and, in many cases, shaped our Nation.

For Jill and me, there is no greater joy than spending time with our own grandchildren. They are the love of our lives, and the life of our love.

The COVID-19 pandemic has been particularly devastating to seniors, and too many families have lost grandparents to the virus. We mourn them as a Nation. To honor the memory of those we have lost and protect those most vulnerable, we mobilized an historic vaccination effort. Already, we have fully vaccinated over 82 percent of all seniors and over 64 percent of all adults—allowing grandparents and their loved ones to get back together safely.

During the worst of COVID-19, we saw the bonds of love that grandparents share with their families remain strong. While the virus denied many grandparents the opportunity to hug their grandchildren, we saw families visiting grandparents outside a window, waving from a safe distance, participating in car parades, or making video calls to stay connected. Grandparents and grandchildren were resilient and creative—sharing recitals, sporting events, graduations, and other important family milestones remotely. Physically apart, we remained bonded by love, faith, and the uniquely American spirit. As we continue our fight against the virus, we are once again able to enjoy the in person warmth and care of our grandparents, and they can enjoy precious time with their children and grandchildren.

For many families, grandparents are the caregivers who provide trusted support to parents and children alike. They care for grandchildren while their parents are at work, pick up grandchildren from school and activities, and provide advice and comfort when needed most. In increasing numbers, grandparents have become primary caregivers when parents cannot care for their children. They sacrifice their own retirement plans, and often strain their own health and financial stability, to ensure their grandchildren continue to grow and learn within the warm embrace of a loving family.

In 2018, the Congress enacted the Supporting Grandparents Raising Grandchildren Act, which established an Advisory Council to Support Grandparents Raising Grandchildren. By the end of this year, the Council will release their first report to the Congress, including recommendations intended to advance change and improve support programs for grandparent and kinship families of all ages.

My Administration looks forward to the release of this report so that we can use it as a guide to improve the livelihoods of grandparents and other older relative caregivers. As President, I am committed to identifying unmet needs, highlighting systemic gaps, and providing recommendations on how we can work together to improve the lives of grandparents and the children they support.

Thanks to our whole-of-government response, heroic frontline workers, world-class scientists, and millions of Americans getting vaccinated, many of us are able to hug our grandparents, and gather around a table once again. We still have more work to do, but we have learned to never take time together for granted. If everyone does their part in getting vaccinated—we will continue to create new, joyful memories. We are grateful for the blessing of that opportunity, and we hope every family will cherish their grandparents today and every day.

NOW, THEREFORE, I, JOSEPH R. BIDEN JR., President of the United States of America, by virtue of the authority vested in me by the Constitution and the laws of the United States, do hereby proclaim September 12, 2021, as National Grandparents Day. I call upon all Americans to celebrate the important role that grandparents play in the lives of their families and the children they love.

IN WITNESS WHEREOF, I have hereunto set my hand this tenth day of September, in the year of our Lord two thousand twenty-one, and of the Independence of the United States of America the two hundred and forty-sixth.

[FR Doc. 2021-20038

Filed 9-14-21; 8:45 am]

Billing code 3295-F1-P